DEPARTMENT OF HEALTH AND HUMAN SERVICES

National Institutes of Health

Solicitation of Written Comments on Draft National Pain Strategy

SUMMARY: The National Institute of Neurological Disorders and Stroke (NINDS) Office of Pain Policy is soliciting public comment on the draft National Pain Strategy.

DATES: Comments on the draft National Pain Strategy must be received no later than 5 p.m. EST on May 20, 2015.

ADDRESSES: The draft National Pain Strategy is available at: http://iprcc.nih.gov/docs/DraftHHSNationalPainStrategy.pdf. Written comments sent electronically are preferred and may be addressed to NPSPublicComments@NIH.gov. Written responses should be addressed to Linda Porter, Ph.D., NINDS/NIH, 31 Center Drive, Room 8A31, Bethesda, MD 20892.

FOR FURTHER INFORMATION CONTACT: Contact Linda Porter, Ph.D., NINDS/NIH, 31 Center Drive, Room 8A31, Bethesda, MD 20892, porterl@ninds.nih.gov.

SUPPLEMENTARY INFORMATION: The draft National Pain Strategy reflects the work of many offices across the Department of Health and Human Services, Department of Defense, and Department of Veterans Affairs. The draft National Pain Strategy also reflects input from scientific and clinical experts and pain patient advocates. It includes objectives and plans related to key areas of pain and pain care, including professional education and training, public education and communication, service delivery and reimbursement, prevention and care, disparities, and population research.

I. Background

A core recommendation of the 2011 IOM Report: Relieving Pain in America is: “The Secretary of the Department of Health and Human Services should develop a comprehensive, population health-level strategy for pain prevention, treatment, management, education, reimbursement, and research that includes specific goals, actions, time frames, and resources.” The IOM report highlighted specific objectives for the strategy:

• Describe how efforts across government agencies, including public-private partnerships, can be established, coordinated, and integrated to encourage population-focused research, education, communication, and community-wide approaches that can help reduce pain and its consequences and remediate disparities in the experience of pain among subgroups of Americans.

• Include an agenda for developing physiological, clinical, behavioral, psychological, outcomes, and health services research and appropriate links across these domains.

• Improve pain assessment and management programs within the service delivery and financing programs of the federal government.

• Proceed in cooperation with the Interagency Pain Research Coordinating Committee and the National Institutes of Health's Pain Consortium and reach out to private-sector participants as appropriate.

• Involve the appropriate agencies and entities.

• Include ongoing efforts to enhance public awareness about the nature of chronic pain and the role of self-care in its management.

The Department of Health and Human Services charged the Interagency Pain Research Coordinating Committee (IPRCC) with creating a comprehensive population health-level strategy to begin addressing these objectives.

II. Information Request

The NINDS Office of Pain Policy, on behalf of DHHS, requests input on the draft National Pain Strategy.

III. Potential Responders

HHS invites input from a broad range of individuals and organizations that have interests in advancing the fundamental understanding of pain and improving pain-related treatment strategies. Some examples of these organizations include, but are not limited to the following:

• Caregivers or health system providers (e.g., physicians, physician assistants, nurses, pharmacists)

• Researchers

• Foundations

• Health care, professional, and educational organizations/societies

• Insurers and business groups

• Medicaid- and Medicare-related organizations

• Patients and their advocates

• Pharmaceutical Industry

• Public health organizations

• State and local public health agencies

When responding, please self-identify with any of the above or other categories (include all that apply) and your name. Anonymous submissions will not be considered. Written materials submitted for consideration should not exceed 5 pages, not including appendices and supplemental documents. Responders may submit other forms of electronic materials to demonstrate or exhibit concepts of their written responses. We request that comments be identified by section, subsection, and page number of the draft so they may be addressed accordingly. All comments received before the close of the comment period are available for viewing by the public, including any personally identifiable or confidential business information that is included in a comment.

Dated: March 25, 2015.
Walter J. Koroshetz,
Acting Director, National Institute of Neurological Disorders and Stroke, National Institutes of Health.

[FR Doc. 2015-07626 Filed 4-1-15; 8:45 am]

BILLING CODE CODE 4140-01-P